DEPARTMENT OF AGRICULTURE

Agricultural Marketing Service

7 CFR Part 982

[Doc. No. AMS-SC-24-0040]

Hazelnuts Grown in Oregon and Washington; Continuance Referendum

AGENCY: Agricultural Marketing Service, USDA.

ACTION: Referendum order.

SUMMARY: This document directs that a referendum be conducted among eligible Oregon and Washington hazelnut growers to determine whether they favor continuance of the marketing order regulating the handling of hazelnuts grown in Oregon and Washington.

DATES: The referendum will be conducted from October 28 through November 18, 2024. Only current hazelnut growers who have grown hazelnuts within the designated production area during the period July 1, 2023, through June 30, 2024, are eligible to vote in this referendum.

ADDRESSES: Copies of the marketing order may be obtained from the office of the referendum agents at 1220 SW 3rd Avenue, Suite 305, Portland, Oregon 97212; Telephone: (503) 326-2724; or the Market Development Division, Specialty Crops Program, AMS, USDA, 1400 Independence Avenue SW, STOP 0237, Washington, DC 20250-0237; Telephone: (202) 720-8085; or on the internet https://www.ecfr.gov/current/title-7/subtitle-B/chapter-IX/part-982.

FOR FURTHER INFORMATION CONTACT: Virginia Tjemsland or Barry Broadbent, Northwest Region Branch, Market Development Division, Specialty Crops Program, AMS, USDA, 1220 SW 3rd Avenue, Suite 305, Portland, Oregon 97212; Telephone: (503) 326-2724, or Email: virginia.l.tjemsland@usda.gov or barry.broadbent@usda.gov.

SUPPLEMENTARY INFORMATION: Pursuant to Marketing Order No. 982, as amended (7 CFR part 982), hereinafter referred to as the “Order,” and the applicable provisions of the Agricultural Marketing Agreement Act of 1937, as amended (7 U.S.C. 601-674), hereinafter referred to as the “Act,” it is hereby directed that a referendum be conducted to ascertain whether continuance of the Order is favored by hazelnut growers. The referendum shall be conducted from October 28 to November 18, 2024, among hazelnut growers in the production area. Only current hazelnut growers that were also engaged in the production of hazelnuts during the period of July 1, 2023, through June 30, 2024, may participate in the continuance referendum.

USDA has determined that continuance referenda are an effective means for determining whether growers favor continuation of marketing order programs. USDA would consider termination of the Order if less than two-thirds of growers voting in the referendum, or growers of less than two-thirds of the volume represented in the referendum, favor continuance. In evaluating the merits of continuance versus termination, USDA will not exclusively consider the results of the continuance referendum. USDA will also consider all other relevant information concerning the operation of the Order and the relative benefits and costs to growers, handlers, and consumers to determine whether continued operation of the Order would tend to effectuate the declared policy of the Act.

In accordance with the Paperwork Reduction Act of 1995 (44 U.S.C. chapter 35), the ballot materials used in the referendum have been approved by the Office of Management and Budget (OMB) and have been assigned OMB No. 0581-0178, Vegetable and Specialty Crops. It has been estimated that it will take an average of 20 minutes for each of the approximately 1,100 Oregon and Washington hazelnut growers to cast a ballot. Participation is voluntary. Ballots postmarked after November 18, 2024, will not be included in the vote tabulation.

Virginia Tjemsland and Barry Broadbent of the Northwest Region Branch, Market Development Division, Specialty Crops Program, AMS, USDA, are hereby designated as the referendum agents of the Secretary of Agriculture to conduct this referendum. The procedure applicable to the referendum shall be the “Procedure for the Conduct of Referenda in Connection with Marketing Orders for Fruits, Vegetables, and Nuts Pursuant to the Agricultural Marketing Agreement Act of 1937, as Amended” (7 CFR 900.400 through 900.407).

Ballots will be mailed to all hazelnut growers of record and may also be obtained from the referendum agents or their appointees.

List of Subjects in 7 CFR Part 982

Marketing agreements, Nuts, Reporting and recordkeeping requirements.

(Authority: 7 U.S.C. 601-674)

Erin Morris,
Associate Administrator, Agricultural Marketing Service.

[FR Doc. 2024-23446 Filed 10-9-24; 8:45 am]

BILLING CODE 3410-02-P